DEPARTMENT OF ENERGY

Federal Energy Regulatory Commission

Combined Notice of Filings #1

Take notice that the Commission received the following electric corporate filings:

Docket Numbers: EC17-83-000.

Applicants: Chambersburg Energy, LLC, Gans Energy, LLC, Hunlock Energy, LLC, Springdale Energy, LLC, Bath County Energy, LLC, Allegheny Energy Supply Company, LLC, Allegheny Generating Company.

Description: Joint Application for Approval Under Section 203 of the Federal Power Act and Request for a Shortened Comment Period of Chambersburg Energy, LLC, et al.

Filed Date: 2/17/17.

Accession Number: 20170217-5252.

Comments Due: 5 p.m. ET 3/10/17.

Take notice that the Commission received the following electric rate filings:

Docket Numbers: ER16-2654-002.

Applicants: City Point Energy Center, LLC.

Description: Notice of Non-Material Change in Status of City Point Energy Center, LLC.

Filed Date: 2/17/17.

Accession Number: 20170217-5248.

Comments Due: 5 p.m. ET 3/10/17.

Docket Numbers: ER17-985-001.

Applicants: Midcontinent Independent System Operator, Inc.

Description: Tariff Amendment: 2017-02-17_Amendment to SA 2907 RockGen-ATC Amended GIA J382/J384 to be effective 2/2/2017.

Filed Date: 2/17/17.

Accession Number: 20170217-5206.

Comments Due: 5 p.m. ET 3/10/17.

Docket Numbers: ER17-1001-000.

Applicants: Midcontinent Independent System Operator, Inc.

Description: § 205(d) Rate Filing: 2017-02-17_SA 2492 MSCPA-METC Project 1 GIA Termination to be effective 6/1/2016.

Filed Date: 2/17/17.

Accession Number: 20170217-5209.

Comments Due: 5 p.m. ET 3/10/17.

Docket Numbers: ER17-1002-000.

Applicants: Optimum Power Investments, LLC.

Description: Baseline eTariff Filing: Baseline new to be effective 3/31/2017.

Filed Date: 2/17/17.

Accession Number: 20170217-5210.

Comments Due: 5 p.m. ET 3/10/17.

Docket Numbers: ER17-1003-000.

Applicants: Tampa Electric Company.

Description: Tariff Cancellation: Termination of Rate Schedule 95 w_Progress Energy Florida-Phillips Agreement to be effective 2/23/2017.

Filed Date: 2/21/17.

Accession Number: 20170221-5128.

Comments Due: 5 p.m. ET 3/14/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2017.
Nathaniel J. Davis, Sr.,
Deputy Secretary.

[FR Doc. 2017-03761 Filed 2-24-17; 8:45 am]

BILLING CODE 6717-01-P